DEPARTMENT OF TRANSPORTATION

Federal Aviation Administration

14 CFR Part 39

[Docket No. FAA-2018-0582; Product Identifier 2018-NM-085-AD; Amendment 39-19503; AD 93-14-19R1]

RIN 2120-AA64

Airworthiness Directives; The Boeing Company Airplanes

AGENCY: Federal Aviation Administration (FAA), Department of Transportation (DOT).

ACTION: Final rule; removal.

SUMMARY: We are removing Airworthiness Directive (AD) 93-14-19, which applied to certain The Boeing Company Model 767-200 and -300 series airplanes. AD 93-14-19 required inspections for disbonding of the trailing edge wedge of the leading edge slat; and repair, if necessary. We issued AD 93-14-19 to prevent the loss of a trailing edge wedge, which could result in reduced maneuver margins, reduced speed margins to stall, and unexpected roll before stall warning, all of which would adversely affect the controllability of the airplane. Since we issued AD 93-14-19, an updated stability and control analysis showed that the worst-case scenario of a trailing edge wedge disbond in-flight would not adversely affect the controllability of the airplane. Accordingly, AD 93-14-19 is removed.

DATES: This AD becomes effective November 26, 2018.

ADDRESSES:

Examining the AD Docket

You may examine the AD docket on the internet at http://www.regulations.gov by searching for and locating Docket No. FAA-2018-0582; or in person at Docket Operations between 9 a.m. and 5 p.m., Monday through Friday, except Federal holidays. The AD docket contains this AD, the regulatory evaluation, any comments received, and other information. The address for Docket Operations (telephone 800-647-5527) is U.S. Department of Transportation, Docket Operations, M-30, West Building Ground Floor, Room W12-140, 1200 New Jersey Avenue SE, Washington, DC 20590.

FOR FURTHER INFORMATION CONTACT: Wayne Lockett, Aerospace Engineer, Airframe Section, FAA, Seattle ACO Branch, 2200 South 216th St., Des Moines, WA 98198; phone and fax: 206-231-3524; email: wayne.lockett@faa.gov.

SUPPLEMENTARY INFORMATION:

Discussion

We issued a notice of proposed rulemaking (NPRM) to amend 14 CFR part 39 by removing AD 93-14-19, Amendment 39-8644 (58 FR 41177, August 3, 1993) (“AD 93-14-19”). AD 93-14-19 applied to certain The Boeing Company Model 767-200 and -300 series airplanes. The NPRM published in the Federal Register on July 17, 2018 (83 FR 33162) (“the NPRM”). The NPRM was prompted by an updated stability and control analysis that showed the worst-case scenario of a trailing edge wedge disbond in-flight would not adversely affect the controllability of the airplane. The NPRM proposed to remove AD 93-14-19. We are issuing this AD to remove AD 93-14-19.

Comments

We gave the public the opportunity to participate in developing this AD. The following presents the comments received on the NPRM and the FAA's response to each comment.

Support for the NPRM

Boeing and Delta Air Lines (DAL) stated their support for the proposed AD. United Airlines stated that it has no objection to the proposed rule.

Request to Withdraw the NPRM

Airline Pilots Association, International (ALPA) stated that it opposes the rescission of AD 93-14-19 because the FAA continues to issue similar ADs effective to other airplanes. ALPA also noted that the required actions of AD 93-14-19 are relatively low cost.

From these statements, we infer that ALPA was requesting that we withdraw the NPRM. We do not agree with the commenter's request. Updated stability and control data for the affected airplanes shows that damage and disbonding of the leading edge slat wedge is insufficient to be considered an airplane-level safety item. The updated data shows that there is sufficient lateral control up to stick shaker to counter any rolling moment caused by a missing or damaged slat wedge. Therefore, we have not changed this AD in this regard.

Request to Rescind Similar AD on another Airplane Model

DAL asked if AD 2017-22-12, Amendment 39-19092 (82 FR 55027, November 20, 2017) (“AD 2017-22-12”), would also be considered for rescission. DAL reasoned that AD 2017-22-12 required, among other things, inspection of the same structure (the trailing edge slat wedge of the leading edge slats) on The Boeing Company Model 757 series airplanes for the same reason (disbonding of slats) as AD 93-14-19.

We agree to clarify. We do not find it appropriate to rescind AD 2017-22-12 at this time. The flight characteristics of The Boeing Company Model 757 series airplanes are different than the flight characteristics of The Boeing Company Model 767 series airplanes, and the stability and control analysis of the one model does not transfer to the other model. However, if new data indicates that the identified unsafe condition no longer exists on Model 757 airplanes, we might consider additional rulemaking at that time. We have not changed this AD in this regard.

Conclusion

We reviewed the relevant data, considered the comments received, and determined that air safety and the public interest require adopting this AD as proposed except for minor editorial changes. We have determined that these minor changes:

• Are consistent with the intent that was proposed in the NPRM for addressing the unsafe condition; and

• Do not add any additional burden upon the public than was already proposed in the NPRM.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 93-14-19, Amendment 39-8644 (58 FR 41177, August 3, 1993), and adding the following new AD:

93-14-19R1 The Boeing Company: Amendment 39-19503; Docket No. FAA-2018-0582; Product Identifier 2018-NM-085-AD.

(a) Effective Date

This AD becomes effective November 26, 2018.

(b) Affected AD

This AD removes AD 93-14-19, Amendment 39-8644 (58 FR 41177, August 3, 1993).

(c) Applicability

This action applies to The Boeing Company Model 767 series airplanes, certificated in any category, line numbers 1 through 488 inclusive.

(d) Subject

Air Transport Association (ATA) of America Code 57, Wings.

(e) Related Information

For more information about this AD, contact Wayne Lockett, Aerospace Engineer, Airframe Section, FAA, Seattle ACO Branch, 2200 South 216th St., Des Moines, WA 98198; phone and fax: 206-231-3524; email: wayne.lockett@faa.gov.

Issued in Des Moines, Washington, on November 8, 2018.
Chris Spangenberg,
Acting Director, System Oversight Division, Aircraft Certification Service.

[FR Doc. 2018-25494 Filed 11-23-18; 8:45 am]

BILLING CODE 4910-13-P